ENVIRONMENTAL PROTECTION AGENCY

[EPA-HQ-OPP-2007-0098; FRL-8115-4]

Full Tribal Pesticide Program Council (TPPC); Notice of Public Meeting

AGENCY: Environmental Protection Agency (EPA).

ACTION: Notice.

SUMMARY: The Tribal Pesticide Program Council (TPPC) will hold a 2 and ½ day meeting, beginning on March 7 and ending on March 9, 2007. This notice announces the location and times for the meeting, and sets forth the tentative agenda topics. The TPPC Tribal Caucus meeting on March 7, 10:30 until noon and the March 9, ½ day meeting from 9 a.m. to noon are scheduled for the TPPC members only.

DATES: The meeting will be held on March 7 and 8, 2007 from 9 a.m. to 5 p.m.

ADDRESSES: The meeting will be held at 2777 South Crystal Dr., One Potomac Yards (South Bldg.) 4th Floor Conference Center/South, Arlington, VA.

FOR FURTHER INFORMATION CONTACT: Georgia A. McDuffie, Field and External Affairs Division, Office of Pesticide Programs, Environmental Protection Agency, 1200 Pennsylvania Ave., NW., Washington, DC 20460-0001; telephone number: (703) 605-0195; fax number: (703) 308-1850; e-mail address: mcduffie.georgia@epa.gov or Lillian Wilmore, TPPC Facilitator, P.O. Box 470829 Brookline Village, MA 02447-0829; Telephone number (617) 277-1656; e-mail address: naecology@aol.com.

SUPPLEMENTARY INFORMATION:

I. General Information

A. Does this Action Apply to Me?

You may be potentially affected by this action if you [are interested in TPPC's information exchange relationship with EPA regarding important issues related to human health, environmental exposure to pesticides, and insight into EPA's decision-making process. All parties are invited and encourage you to attend the meetings and participate as appropriate.” Potentially affected entities may include, but are not limited to: Those persons who are or may be required to conduct testing of chemical substances under the Federal Food, Drug, and Cosmetic Act (FFDCA), or the Federal Insecticide, Fungicide, and Rodenticide Act (FIFRA). Since other entities may also be interested, the Agency has not attempted to describe all the specific entities that may be affected by this action. If you have any questions regarding the application of this action to a particular entity, consult either person listed under FOR FURTHER INFORMATION CONTACT

B. How Can I Get Copies of this Document and Other Related Information?

1. Docket. EPA has established a docket for this action under docket identification (ID) number EPA-HQ-OPPT-2006-0098. Publicly available docket materials are available either in the electronic docket at http://www.regulations.gov, or, if only available in hard copy, at the Office of Pesticide Programs (OPP) Regulatory Public Docket in Rm. S-4400, One Potomac Yard (South Bldg.), 2777 S. Crystal Drive Arlington, VA. The hours of operation of this Docket Facility are from 8:30 a.m. to 4 p.m., Monday through Friday, excluding legal holidays. The Docket telephone number is (703) 305-5805.

2. Electronic access. You may access this Federal Register document electronically through the EPA Internet under the “Federal Register” listings at http://www.epa.gov/fedrgstr.

II. Tentative Agenda

1. TPPC State of the Council Report

2. EPA/OPP, OECA and Region Update/Report

3. Pesticides and Health Impacts/Focus on impacts on Children

4. TPPC Update/Report

5. Endangered Species Update

6. Pesticide Labeling and Personal Protective Equipment

7. Strategic Planning Discussion

8. Success Story/ Use of IPM in Controlling Invasives

List of Subjects

Environmental protection.

Dated: February 8, 2007.
W. R. Diamond,
Director, Field External Affairs Division, Office of Pesticide Programs

[FR Doc. E7-2668 Filed 2-15-07; 8:45 am]

BILLING CODE 6560-50-S